INTERNATIONAL TRADE COMMISSION

[Investigation No. 731-TA-1094 (Final)]

In the Matter of Metal Calendar Slides From Japan; Notice of Commission Determination not To Conduct a Portion of the Hearing In Camera

AGENCY: U.S. International Trade Commission.

ACTION: Commission determination not to close any part of the hearing to the public.

SUMMARY: The Commission has determined to deny the request of respondent Nishiyama Kinzoku Ltd. Co. (“Nishiyama”) to conduct a portion of its hearing in the above-captioned investigation scheduled for June 22, 2006, in camera. See Commission rules 201.13 and 201.36(b)(4) (19 CFR 201.13 and 201.36(b)(4)).

FOR FURTHER INFORMATION CONTACT: Karl von Schriltz, Esq., Office of the General Counsel, U.S. International Trade Commission, telephone 202-205-3096. Hearing-impaired individuals are advised that information on this matter may be obtained by contacting the Commission's TDD terminal on 202-205-1810.

SUPPLEMENTARY INFORMATION: The Commission believes it should conduct its business in public in all but the most unusual circumstances. The Commission has determined that, in light of the nature of this investigation, it will be able to assess adequately all arguments raised by Nishiyama without resorting to the extraordinary measure of an in camera hearing. Accordingly, the Commission has determined that the public interest would be best served by a hearing that is entirely open to the public. See 19 CFR 201.36(c)(1).

Authority: This notice is provided pursuant to Commission Rule 201.35(b) (19 CFR 201.35(b)).

By order of the Commission.
Issued: June 15, 2006.
Marilyn R. Abbott,
Secretary to the Commission.

[FR Doc. E6-9676 Filed 6-19-06; 8:45 am]

BILLING CODE 7020-02-P